DEPARTMENT OF THE INTERIOR

National Park Service

Notice of Intent to Repatriate Cultural Items: Institute for American Indian Studies, Washington, CT

AGENCY: National Park Service, Interior.

ACTION: Notice.

Notice is here given in accordance with the Native American Graves Protection and Repatriation Act (NAGPRA), 25 U.S.C. 3005, of the intent to repatriate cultural items in the possession of the Institute for American Indian Studies, Washington, CT, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The two cultural items are elbow pipes. The first elbow pipe is a plain burnished clay elbow pipe bowl and part of a stem. The second pipe is a “copper pipe” with a thin stem 6 inches in length.

In the early 1970s, the Institute for American Indian Studies purchased the two cultural items from the Rogers family as part of their acquisition of the Edward H. Rogers collection. Mr. Rogers was a collector residing in Devon, CT, who excavated, traded, and bought archeological items from throughout the Western Hemisphere. The bulk of his collection is from New England. It was accumulated during the early and mid-twentieth century. According to Mr. Rogers' notebooks, he purchased the two elbow pipes from Mr. Harry Hathaway of Devon, CT, in 1940. According to Mr. Rogers' notes, Mr. Hathaway believed that Mr. Andrew Chase had removed the two elbow pipes, along with a glass bottle and spectacles, from an “Indian Grave” in Tiverton, RI, in 1900. Nothing further is known about the present disposition of the glass bottle and spectacles.

Since the lands presently known as Rhode Island are claimed by the Narragansett Indian Tribe of Rhode Island as their ancient homelands, and the claim appears to be supported by historical documents, the Institute for American Indian Studies believes that a preponderance of evidence shows a cultural affiliation with the Narragansett peoples.

Officials of the Institute for American Indian Studies have determined that, pursuant to 25 U.S.C. 3001 (3)(B), the two cultural items described above are reasonably believed to have been placed with or near individual human remains at the time of death or later as part of the death rite or ceremony and are believed, by a preponderance of the evidence, to have been removed from a specific burial site of a Native American individual. Officials of the Institute for American Indian Studies also have determined that, pursuant to 25 U.S.C. 3001 (2), there is a relationship of shared group identity that can be reasonably traced between the two unassociated funerary objects and the Narragansett Indian Tribe of Rhode Island.

Representatives of any other Indian tribe that believes itself to be culturally affiliated with the unassociated funerary objects should contact Dr. Lucianne Lavin, Director of Research and Collections, Institute for American Indian Studies, Washington, CT 06793, telephone (860) 868-0518, before August 7, 2006. Repatriation of the two unassociated funerary objects to the Narragansett Indian Tribe of Rhode Island may proceed after that date if no additional claimants come forward.

The Institute for American Indian Studies is responsible for notifying the Narragansett Indian Tribe of Rhode Island that this notice has been published.

Dated: June 8, 2006.
Sherry Hutt,
Manager, National NAGPRA Program.

[FR Doc. E6-10522 Filed 7-5-06; 8:45 am]

BILLING CODE 4312-50-S